DEPARTMENT OF ENERGY

Western Area Power Administration

Pacific Northwest-Pacific Southwest Intertie Project and Parker-Davis Project—Rate Order No. WAPA-210

AGENCY: Western Area Power Administration, DOE.

ACTION: Notice of proposed extension of transmission and firm electric service rates.

SUMMARY: The Desert Southwest Region (DSW) of the Western Area Power Administration (WAPA) proposes to extend the existing transmission service rates for the Pacific Northwest-Pacific Southwest Intertie Project (Intertie) and the existing transmission and firm electric service formula rates for the Parker-Davis Project (PDP) through September 30, 2024. The existing rates and formula rates remain unchanged under Rate Schedules INT-FT5, INT-NFT4, PD-F7, PD-FT7, PD-FCT7, and PD-NFT7, which expire on September 30, 2023.

DATES: A consultation and comment period will begin June 23, 2023 and end July 24, 2023. DSW will accept written comments at any time during the consultation and comment period.

ADDRESSES: Written comments and requests to be informed of Federal Energy Regulatory Commission (FERC) actions concerning the proposed extension submitted by WAPA to FERC for approval should be sent to: Jack D. Murray, Regional Manager, Desert Southwest Region, Western Area Power Administration, P.O. Box 6457, Phoenix, AZ 85005-6457, or email: dswpwrmrk@wapa.gov. DSW will post information about the proposed rate extensions and written comments received to its website at: www.wapa.gov/regions/DSW/Rates/Pages/intertie-rates.aspx.

FOR FURTHER INFORMATION CONTACT: Tina Ramsey, Rates Manager, Desert Southwest Region, Western Area Power Administration, (602) 605-2565 or email: dswpwrmrk@wapa.gov.

SUPPLEMENTARY INFORMATION:

Intertie Project Transmission Service

On August 22, 2013, FERC approved and confirmed Rate Schedules INT-FT5 and INT-NFT4 under Rate Order No. WAPA-157 for five years through April 30, 2018.¹ WAPA's Administrator subsequently approved the use of the existing Intertie transmission service rates for short-term sales for the period between May 1, 2018, and October 31, 2018, or the date the extension of the Intertie transmission service rates went into effect, whichever occurred first. On September 11, 2018, the Deputy Secretary of Energy approved the extension of the Intertie transmission service rates on an interim basis.² On December 3, 2018, FERC approved and confirmed the extension of Rate Schedules INT-FT5 and INT-NFT4 under Rate Order No. WAPA-181 through September 30, 2020.³ On March 2, 2021, FERC approved and confirmed the extension of Rate Schedules INT-FT5 and INT-NFT4 under Rate Order No. WAPA-192 through September 30, 2023.⁴

¹ Order Confirming and Approving Rate Schedules on a Final Basis, FERC Docket No. EF13-4-000.

² 83 FR 47921 (Sept. 21, 2018).

³ Order Confirming and Approving Rate Schedules on a Final Basis, FERC Docket No. EF18-5-000.

⁴ Order Confirming and Approving Rate Schedules on a Final Basis, FERC Docket No. EF20-9-000.

In accordance with 10 CFR 903.23(a),⁵ DSW is proposing to extend the existing Intertie transmission service rates under Rate Schedules INT-FT5 and INT-NFT4 for one year, through September 30, 2024. The existing rates provide sufficient revenue to pay all annual costs, including interest expense, and repay investment within the allowable period consistent with the cost recovery criteria set forth in Department of Energy (DOE) Order RA 6120.2.

⁵ 50 FR 37835 (Sept. 18, 1985) and 84 FR 5347 (Feb. 21, 2019).

Parker-Davis Project Transmission and Firm Electric Service

On September 18, 2014, FERC approved and confirmed Rate Schedules PD-F7, PD-FT7, PD-FCT7, and PD-NFT7 under Rate Order No. WAPA-162 for a 5-year period through September 30, 2018.⁶ On January 31, 2019, FERC approved and confirmed the extension of Rate Schedules PD-F7, PD-FT7, PD-FCT7, and PD-NFT7 under Rate Order No. WAPA-184 through September 30, 2023.⁷

⁶ Order Confirming and Approving Rate Schedules on a Final Basis, FERC Docket No. EF14-4-000.

⁷ Order Confirming and Approving Rate Schedules on a Final Basis, FERC Docket No. EF19-1-000.

In accordance with 10 CFR 903.23(a), DSW is proposing to extend the existing PDP transmission and firm electric service formula rates under Rate Schedules PD-F7, PD-FT7, PD-FCT7, and PD-NFT7 for a one-year period, through September 30, 2024. The existing formula rates provide sufficient revenue to pay all annual costs, including interest expense, and repay investment within the allowable period consistent with the cost recovery criteria set forth in DOE Order RA 6120.2.

Intertie Project and Parker-Davis Project Services

Concurrent with this proposed rate extension, WAPA will be initiating a public process to combine the transmission service rates and facilities use charge on Federal projects located within DSW, which includes Intertie and PDP. Extending the existing Intertie rates and PDP formula rates through September 30, 2024, will provide WAPA additional time to engage with the public and its customers and further evaluate the proposed combined transmission rate.

In accordance with 10 CFR 903.23(a), WAPA has determined that it is unnecessary to hold public information or public comment forums for this rate action but is initiating a 30-day consultation and comment period allowing the public an opportunity to comment on the proposed extension.

Legal Authority

By Delegation Order No. S1-DEL-RATES-2016, effective November 19, 2016, the Secretary of Energy delegated: (1) the authority to develop power and transmission rates to the WAPA Administrator; (2) the authority to confirm, approve, and place such rates into effect on an interim basis to the Deputy Secretary of Energy; and (3) the authority to confirm, approve, and place into effect on a final basis, or to remand or disapprove such rates, to FERC. By Delegation Order No. S1-DEL-S3-2023, effective April 10, 2023, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator.

Ratemaking Procedure Requirements

Environmental Compliance

WAPA determined that this action fits within the following categorical exclusions listed in appendix B to subpart D of 10 CFR part 1021.410: B4.3 (Electric power marketing rate changes). Categorically excluded projects and activities do not require preparation of either an environmental impact statement or an environmental assessment.⁸ A copy of the categorical exclusion determination is available on WAPA's website at www.wapa.gov/regions/DSW/Environment/Pages/environment.aspx. Look for file entitled, “Rate Order WAPA-210.”

⁸ The determination was done in compliance with the National Environmental Policy Act (NEPA) of 1969, as amended, 42 U.S.C. 4321-4347; the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Signing Authority

This document of the Department of Energy was signed on June 2, 2023, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 20, 2023.
Treena V. Garrett,
Federal Register Liaison Officer, U.S. Department of Energy.

[FR Doc. 2023-13368 Filed 6-22-23; 8:45 am]

BILLING CODE 6450-01-P